DEPARTMENT OF LABOR

Employment and Training Administration

Announcing the New National Electronic Job Registry for Use in the H-2A Temporary Agricultural Labor Certification Program

AGENCY: Employment and Training Administration, Department of Labor.

ACTION: Notice.

SUMMARY: The Employment and Training Administration (ETA) is announcing that the National Electronic Job Registry (job registry) in which H-2A job orders will be posted and available to the public will be operational on July 8, 2010.

DATES: This Notice is effective on July 8, 2010.

FOR FURTHER INFORMATION CONTACT: For technical issues stemming from the Department's implementation of the job registry, please contact the iCERT System Team, Office of Foreign Labor Certification (OFLC), at oflc.portal@dol.gov. For program issues related to H-2A job orders, please e-mail the OFLC Chicago National Processing Center's (CNPC) Help Desk Unit at H-2Ajobregistry.chicago@dol.gov or call (312) 886-8000 (this is not a toll-free number).

SUPPLEMENTARY INFORMATION:

I. Background

On February 12, 2010, the Department of Labor (Department) published in the Federal Register a Final Rule governing the Temporary Agricultural Employment of H-2A Aliens in the United States (the 2010 Final Rule). The 2010 Final Rule amended the regulations governing the labor certification process for the temporary agricultural employment of H-2A aliens in the United States, codified at 20 CFR part 655, subpart B, and the enforcement of employer obligations under the H-2A program, codified at 29 CFR part 501. The 2010 Final Rule became effective on March 15, 2010.

The regulations promulgated by the 2010 Final Rule include a requirement that all job orders filed in connection with H-2A applications be posted by the Certifying Officer on a national, publicly accessible electronic job registry until the end of 50 percent of the contract period. As discussed in the preamble to the 2010 Final Rule, requiring the posting of job orders in a national job registry will improve the transparency of agricultural jobs available to U.S. workers and provide an unprecedented level of public access to one of the most frequently requested types of records maintained by the Department.

II. Information on Activation of the National Job Registry

In the 2010 Final Rule, the Department stated it would inform the public through a notice in the Federal Register when the job registry becomes operational. The Department is hereby announcing that the job registry will be operational on July 8, 2010. Public access to the job registry will be available through the OFLC iCERT Visa Portal System at http://icert.doleta.gov.

On and after July 8, 2010, the job registry will be available for members of the public to search and retrieve H-2A job orders filed in connection with an Application for Temporary Employment Certification, ETA Form 9142, and accepted by the Department for recruitment of domestic workers under the 2010 Final Rule. This new Web-based tool will provide an unprecedented level of public access to H-2A job orders and will allow the Department to fulfill its regulatory obligations under the H-2A program and maintain its commitment to the principles of Open Government.

All information placed on the job registry will be easily accessible through the Internet in an electronic format permitting the highest possible level of granularity and will contain public data collected from the primary source, i.e., the employer/applicant. The Department will not disclose on the job registry information or data subject to privacy, security, or privilege limitations.

The Department will place each job order on the registry promptly after accepting the employer's application. Where the Department accepts a modification to the originally accepted job order (e.g., a change in the start date), the Department will promptly post the modified job order on the registry in place of the original job order, noting that the job order has been modified.

Upon acceptance and placement on the job registry, each job order will be immediately available to the public through a single entry point—the iCERT Visa Portal System. The public will not be required to register on the iCERT system to access the job registry. The job registry will provide an interactive state map from the main iCERT Visa Portal homepage allowing the public to quickly search for any active job order(s) posted on the registry within the last 30 calendar days. Job orders older than 30 days will be accessible to the public through registry search engines. The job order information will be searchable along a series of common data points such as case number, employer name, area of intended employment, work contract period, job title, and primary crop or agricultural activity. All search results will be displayed in a table format with sortable column headers. The public will be able to view a summary of the job order as well as download a copy of the entire job order and all attachments in Adobe PDF format.

III. Help Desk

OFLC has implemented a dedicated Help Desk Unit at the CNPC to serve as a resource to the public on program issues related to job orders filed in connection with an Application for Temporary Employment Certification, ETA Form 9142, under the H-2A program. Please submit questions related to job order(s) placed on the H-2A job registry by e-mail to H-2Ajobregistry.chicago@dol.gov. This H-2A job registry Help Desk e-mail box will be monitored by CNPC staff during normal business hours, i.e., from 8:30 a.m. to 5:00 p.m. Central Time, Monday through Friday. E-mail inquiries will be handled as expeditiously as possible. Members of the public may also contact the job registry Help Desk by calling (312) 886-8000 (this is not a toll-free number).

Please direct requests for technical assistance with the H-2A job registry to the iCERT System Team, OFLC, at oflc.portal@dol.gov, and include “Job Registry—Technical Assistance” in the subject line of the e-mail.

Signed in Washington, DC, this 9th day of June 2010.
Jane Oates,
Assistant Secretary, Employment and Training Administration.

[FR Doc. 2010-16011 Filed 6-30-10; 8:45 am]

BILLING CODE 4510-FP-P